FEDERAL COMMUNICATIONS COMMISSION

47 CFR Part 73

[DA 01-930; MM Docket No. 89-120, RM-6701, 6999, 7000, 7001]

FM Broadcasting Services; Northwye, Cuba, Waynesville, Lake Ozark, and Eldon, MO

AGENCY: Federal Communications Commission.

ACTION: Final rule; petition for reconsideration.

SUMMARY: In MM Docket No. 89-120, the Commission dismissed as moot the petition for reconsideration filed by Lake Broadcasting, Inc., licensee of Station KBMX(FM), Channel 270A (101.9 MHz), Eldon, Missouri, and grantee of the construction permit for Station KFXE (FM), Channel 271A (102.1), Cuba, Missouri. Lake had requested reconsideration of the Report and Order, 57 FR 6561, published February 26, 1992. The Commission dismissed Lake's petition for reconsideration following the denial of certiorari by the U.S. Supreme Court in Lake's appeal of the revocation of its licenses and construction permits. See Contemporary Media, Inc., et al., v. Federal Communications Commission, 214 F. 3d 187 (D.C. Cir 2000), cert. denied, 532 U.S. __ (2001). Michael Rice, Lake's sole owner and president, had been convicted of the felonies of deviate sexual conduct and sodomy of minors. Lake and other licensees owned or controlled by Rice also made repeated misrepresentations to the Commission as to Rice's continued involvement with their stations. With this action, the proceeding is terminated.

DATES: Effective May 1, 2001.

FOR FURTHER INFORMATION CONTACT: J. Bertron Withers, Jr., Mass Media Bureau, (202) 418-2180.

SUPPLEMENTARY INFORMATION: This is a summary of the Memorandum Opinion and Order, MM Docket 89-120, adopted April 4, 2001, and released April 13, 2001. The full text of this Commission decision is available for inspection and copying during normal business hours in the Commission's Reference Information Center (room CY-A257), 445 12th Street, SW., Washington, DC 20554. The complete text of this decision may be also purchased from the Commission's copy contractor, International Transcription Service, 1231 20th Street, NW., Washington, DC 20036, (202) 857-3800.

Federal Communications Commission.
John A. Karousos,
Chief, Allocations Branch, Policy and Rules Division, Mass Media Bureau.

[FR Doc. 01-10702 Filed 4-30-01; 8:45 am]

BILLING CODE 6712-01-P